DEPARTMENT OF ENERGY

Federal Energy Regulatory Commission

[Docket No. RP01-175-000]

Total Peaking Services, L.L.C.; Notice of Tariff Change

December 12, 2000.

Take notice that on December 5, 2000, Total Peaking Services, L.L.C. (Total Peaking), tendered for filing as part of its FERC Gas Tariff, Original Volume No. 1, the following tariffs, with an effective date of:

Revised Tariff Sheets Nos. 64 and 82

Total Peaking states that the Revised Sheets remove language from Total Peaking's Tariff that currently subjects customers to imbalance penalties.

Any persons desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 00-32079 Filed 12-15-00; 8:45 am]

BILLING CODE 6717-01-M